DEPARTMENT OF JUSTICE

National Institute of Corrections

Advisory Board Meeting

Time and Date: 8 a.m. to 4:30 p.m. on Monday, October 6, 2008. 8 a.m. to 4:30 p.m. on Tuesday, October 7, 2008.

Place: Federal Correctional Complex, P.O. Box 1600, Butner, North Carolina 27509, Phone: 919.575.3900.

Status: Open.

Matters To Be Considered: The Advisory Board Members will tour the Federal Correctional Institution -1 and the Federal Medical Center; Presentations on Behavioral Health, multitude of behavioral health programs and operations across the complex; Agency Reports; Video presentation by the Director of Office of Justice Program's Smart Office on the Adam Walsh Act; U.S. Parole Commission; American Corrections Association; Federal Judicial Center.

Contact Person for More Information: Thomas Beauclair, Deputy Director, 202-307-3106, ext. 44254.

Morris L. Thigpen,
Director.

[FR Doc. E8-21028 Filed 9-10-08; 8:45 am]

BILLING CODE 4410-36-M